DEPARTMENT OF JUSTICE

Office of Justice Programs

[OJP(BJS)-1317]

Tribal Justice Statistics Assistance Center

AGENCY: Bureau of Justice Statistics, Office of Justice Programs, Justice.

ACTION: Notice of solicitation for award of cooperative agreement.

SUMMARY: The purpose of this notice is to announce a solicitation for the development and implementation of a Tribal Justice Statistics Assistance Center (TJSAC) which will assist Federally recognized American Indian and Alaska Native tribes in improving the collection, quality, and use of criminal and civil justice statistics in Indian Country.

DATES: Proposals must arrive at the Bureau of Justice Statistics (BJS) on or before 5 p.m. EST, Friday, June 18, 2001, or be postmarked on or before June 18, 2001.

ADDRESSES: Proposals should be mailed to: Application Coordinator, Bureau of Justice Statistics, 810 7th Street, NW., Washington, DC 20531; (202) 616-3497.

FOR FURTHER INFORMATION CONTACT: Marika Litras, Ph.D., Statistician, Bureau of Justice Statistics, 810 7th Street, NW., Washington, DC 20531; Phone: (202) 514-4272 [This is not a toll free number]; Email: marika.litras@usdoj.gov.

SUPPLEMENTARY INFORMATION:

Statutory Authority

The award(s) made pursuant to this solicitation will be funded by the Bureau of Justice Statistics consistent with the provisions of 42 U.S.C. 3732.

Program Goals

The purpose of this award is to establish a Tribal Justice Statistics Assistance Center (TJSAC) that will work with Federally recognized American Indian and Alaska Native tribes to assist them in the development and/or improvement of tribal justice agencies' internal abilities to generate and use criminal and civil justice statistics. The nature and subject matter of the assistance to be provided by the TJSAC under this grant is broadly defined and will depend on the particular needs of the tribal agency requesting assistance. Assistance may involve, for example, the evaluation of existing data collection capacity and reporting procedures, advising tribal agencies about obtaining the necessary technology, hardware and software to collect, process, maintain, and analyze criminal justice data, and providing training in the use of criminal justice and other data to inform justice decision making in Indian Country.¹ TJSAC will also serve to assist tribal jurisdictions to participate in national data collections such as the National Incident Based Reporting System (NIBRS) and the Uniform Crime Reporting (UCR) program, as well as OJP operated data collections related to corrections, criminal victimization, court processing, and juvenile justice statistics. In addition, TJSAC will provide assistance for tribal participation and access to national law enforcement data systems such as the National Criminal Information Center (NCIC) and the National Protection Order File.

¹ Includes areas established as reservations or trust areas for native peoples of Alaska.

BJS anticipates making one award for a 24-month period under this solicitation. Up to $825,000 will be made available for this project under the FY2001 appropriation.

Background

Implementation of the Tribal Justice Statistics Assistance Center is part of a multi-faceted effort by BJS to expand statistical activities related to American Indian and Alaska Native crime and justice issues.

The lack of criminal justice information and statistics in Indian Country has become increasingly apparent in recent years. Few Indian tribes produce statistical information about their justice systems that describe law enforcement, judicial, corrections, or juvenile justice activities and processes. National statistical programs, moreover, do not routinely contain data on criminal justice activities in Indian Country, while those that do are limited in the level of reliable and representative information they can provide.

Though a recent study found that criminal victimization among American Indians occurs at rates higher than for any other race group (American Indians and Crime, BJS, February 1999), tribes tend to lack objective statistical information necessary to monitor crime in their jurisdiction, evaluate criminal justice processing, and inform criminal justice management, resource allocation, and overall decision making. Few law enforcement agencies in Indian Country are able to participate in the National Incident-Based Reporting System (NIBRS) to track the incidence and prevalence of crime in their jurisdiction, and few tribes have access to or participate in the National Criminal Information Center (NCIC), the National Sex Offender Registry (NSOR), or other national criminal history record information systems that could increase tribal member safety through improved information on repeat and serious offenders. Few tribes, moreover, routinely maintain and disseminate statistics about juvenile justice issues such as youth violence and tribal youth in custody. The TJSAC would help tribes collect and disseminate information about reported crime in their jurisdiction, criminal case processing, the use or enforcement of protection orders that could be used to protect victims of rape, and family or intimate partner violence, and other relevant criminal justice statistics. These kinds of data and information systems are necessary for tribal justice policy decision making, the allocation of scarce criminal justice resources, and to assist tribal law enforcement authorities in qualifying for national crime prevention grant programs and other state pass-through funds such as the Byrne formula grant program.

Eligibility Requirements

Both profit making and nonprofit organizations may apply for funds. Consistent with OJP fiscal year requirements, however, no fees may be charged against the project by profit-making organizations.

Scope of Work

The objective of this project is to establish a Tribal Justice Statistics Assistance Center that will provide expertise and technical assistance to tribal justice agencies to improve their collection and use of criminal justice statistical data and criminal justice record keeping practices in Indian Country. Specifically, the recipient of funds will:

1. Implement a Tribal Justice Statistics Assistance Center (TJSAC) that will help American Indian and Alaska Native tribes to understand, identify, plan for, acquire and employ knowledge and tools to improve data collection and use of their criminal justice statistics. Technical assistance requests will vary according to the existing capacities of the tribal agency and the Center must be flexible in handling a wide range of needs. Assistance may range from recommending standardized data definitions and caseload management strategies, to assisting with the ongoing implementation of a NIBRS-compliant crime reporting system, to providing guidance and reference materials for acquiring basic computer access.

2. Provide technical and statistical assistance through both in-house and on-site methods. In-house methods may include, but are not limited to, telephone calls/conferences, electronic and mail correspondence, the publication and distribution (via website and mail) of reference materials, monographs, and technical bulletins. On-site visits should be reserved for more extensive needs assessments and assistance, should be conducted with the consultation and approval of BJS, and should involve considerable coordination with key tribal leaders, criminal justice, and technology staff in addition to relevant local, state, tribal and federal criminal justice agencies.

3. Convene a national or set of regional meetings on the technical, policy, operational, and collaborative aspects of implementing and maintaining criminal justice data in Indian Country. The conference should assemble forums that focus on disseminating information about the benefits tribal agencies can receive from uniform, timely, and reliable statistical systems, the use of statistical data for tribal police departments and court systems, the role of criminal justice statistics in the effective administration of justice, and encouraging cooperation among local, state, tribal, and federal level personnel in these efforts. The conference should include high-level tribal leaders, key members of regional or nationally recognized Native American organizations, and relevant personnel from local, state, tribal and federal levels of government.

4. Maintain documentation summarizing the source and nature of technical assistance requested, type of assistance provided, and action taken by tribes to implement technical assistance needs. Documentation should be provided for both in-house and on-site technical assistance. This documentation will be compiled and published by BJS.

5. Develop measures to identify the progress achieved in improving criminal justice statistics in Indian Country and tribal participation in national data collection systems and national law enforcement information systems. The grantee will provide documentation in a report to BJS on assistance provided by the TJSAC during the course of the project, and will monitor and report on the number of tribes participating in national databases and information systems.

Award Procedures and Evaluation Criteria

Proposals should describe the plan and implementation strategy to accomplish each of the activities outlined in the Scope of Work. Applications will be reviewed competitively. The final selection decision will be made by the Director of BJS.

The applicant will be evaluated on the basis of:

1. Knowledge of the development, management, and implementation of criminal justice statistics in the areas of reported crime, arrests and dispositions, judicial caseload and workload, corrections, juvenile justice, and records management systems. This should include knowledge of issues related to information sharing, case processing, and data integration among local, state, tribal, and federal criminal justice agencies. Applicant should demonstrate knowledge of issues related to access and participation in national criminal justice information systems such as, but not limited to, the National Incident-Based Reporting System (NIBRS) and the National Criminal Information Center (NCIC).

2. Knowledge of tribal justice issues and impediments to implementing high-quality criminal justice statistics in Indian Country. Applicant must demonstrate the ability to coordinate and facilitate cooperation among local, state, tribal, and federal agencies in recommending the collection and use of statistics and technical improvements to tribes. Applicant should demonstrate an understanding of the historical, political, and economic factors involved in local, state, tribal, and federal relations and must demonstrate the ability (via knowledge, staff, or sub-contractual agreement) to collaborate with and involve local, regional, and/or national Native American organizations to ensure coordination of priorities in Indian Country. Applicant must detail their strategy for bringing about cooperation among these various levels of government and organizations.

3. Ability to generate awareness of and access to the TJSAC by tribal justice agencies throughout the continental U.S. and Alaska. Applicant should detail how they will make tribal justice agencies aware of the TJSAC, the services it provides, and how they can obtain assistance.

4. Contact and experience in dealing with local, state, tribal, and federal representatives on issues relating to criminal justice statistics standards, data collection, data management, and its practical application in Indian Country. Applicant should demonstrate ability to interact with relevant Federal agencies such as the Federal Bureau of Investigation (FBI), the Bureau of Indian Affairs (BIA), the Department of Justice's Office of Tribal Justice (OTJ), the Office of Community Oriented Policing Services (COPS), the Violence Against Women Office (VAWO), and the Office of Juvenile Justice and Delinquency and Prevention (OJJDP). Applicant also should describe how they will ensure coordination among local, state, and tribal governments. This includes key personnel working in the area of tribal justice, in addition to other relevant criminal justice practitioners, policy makers, and data management personnel.

5. Demonstrated capacity to ensure that provided technical assistance is coordinated with other law enforcement and crime prevention Federal grant resources such as the Office of Community Oriented Policing Services (COPS).

6. Demonstrated ability to conduct conferences and workshops that will promote awareness of the TJSAC and an understanding of the relationship between criminal justice statistics and improved administration of tribal justice. Applicant must demonstrate ability to identify key representatives at the local, state, tribal, and federal levels that will work together to advance the goals of this project.

7. Demonstrated fiscal, management, staff, and organizational capability to provide sound management for this project.

Application and Award Process

An original and five (5) copies of the full proposal must be submitted including:

• Standard Form 424, Application for Federal Assistance

• OJP Form 7150/1, Budget Detail Worksheet

• OJP Form 4000/3, Assurances

• OJP Form 4061/6, Certification Regarding Lobbying, Debarment, Suspension, and Other Responsibility Matters; Drug Free Workplace Requirements

• OJP Form 7120-1, Accounting System and Financial Capability Questionnaire (to be submitted by applicants who have not previously received Federal funds from the Office of Justice Programs)

These forms can be obtained online from http://www2.ojp.usdoj.gov/bjs/apply.htm.

Proposals must include a project narrative and detailed budget. The project narrative should describe activities as discussed in the Scope of Work and address the evaluation criteria. The detailed budget must provide detailed costs including salaries of staff involved in the project and the portion of those salaries to be paid from the award, fringe benefits paid to each staff person, travel costs, supplies required for the project, sub-contractual agreements, and other allowable costs. The grant award will be made for a period of 24 months.

Dated: April 27, 2001.
Lawrence A. Greenfeld,
Acting Director, Bureau of Justice Statistics.

[FR Doc. 01-11075 Filed 5-3-01; 8:45 am]

BILLING CODE 4410-18-P